DEPARTMENT OF HEALTH AND HUMAN SERVICES

National Institutes of Health

National Institute of Mental Health; Notice of Closed Meeting

Pursuant to section 10(d) of the Federal Advisory Committee Act, as amended (5 U.S.C. Appendix 2) notice is hereby given of a meeting of the Board of Scientific Counselors, National Institute of Mental Health. The meeting will be closed to the public as indicated below in accordance with the provisions set forth in section 552b(c)(6), Title 5 U.S.C., as amended for the review, discussion, and evaluation of individual intramural programs and projects conducted by the National Institute of Mental Health, including consideration of personnel qualifications and performance, and the competence of individual investigators, the disclosure of which would constitute a clearly unwarranted invasion of personal privacy.

Name of Committee: Board of Scientific Counselors, National Institute of Mental Health.

Date: November 6-8, 2006.

Time: November 6, 2006, 7 p.m. to 10 p.m.

Agenda: To review and evaluate the NIMH Intramural program.

Place: Bethesda Marriott, 5151 Pooks Hill Road, Bethesda, MD 20814.

Time: November 7, 2006, 8:30 a.m. to 12:30 p.m.

Agenda: To review and evaluate the Training Fellows and Laboratories.

Place: National Institutes of Health, Neuroscience Center, 6001 Executive Boulevard, Conference Room A, Rockville, MD 20852.

Time: November 7, 2006, 1 p.m. to 3 p.m.

Agenda: to review and evaluate the NIMH Intramural program and report preparation.

Place: National Institutes of Health, Neuroscience Center, 6001 Executive Boulevard, Rockville, MD 20852.

Time: November 7, 2006, 3 p.m. to 4 p.m.

Agenda: To review and evaluate personal qualifications and performance, and competence of individual investigators.

Place: National Institutes of Health, Neuroscience Center, 6001 Executive Boulevard, Conference Room A, Rockville, MD 20852.

Time: November 7, 2006, 7 p.m. to 10 p.m.

Agenda: To review and evaluate the NIMH Intramural program.

Place: Bethesda Marriott, 5151 Pooks Hill Road, Bethesda, MD 20814.

Time: November 8, 2006, 8:30 a.m. to 1 p.m.

Agenda: To review and evaluate the Training Fellows, Staff Scientists, and Laboratories.

Place: National Institutes of Health, Neuroscience Center, 6001 Executive Boulevard, Conference Room A, Rockville, MD 20851.

Time: November 8, 2006, 1 p.m. to 4 p.m.

Agenda: to review and evaluate the NIMH Intramural program and report preparation.

Place: National Institutes of Health, Neuroscience Center, 6001 Executive Boulevard, Conference Room A, Rockville, MD 20852.

Contact Person: Susan Koester, PhD, Executive Secretary, Associate Director for Science, Intramural Research Program, National Institute of Mental Health, NIH, Building 10, Room 4N222, MSC 1381, Bethesda, MD 20892-1381, 301-496-3501.

This notice is being published less than 15 days prior to the meeting due to the urgent need to meet timing limitations imposed by the intramural research review cycle.

(Catalogue of Federal Domestic Assistance Program Nos. 93.242, Mental Health Research Grants; 93.281, Scientist Development Award, Scientist Development Award for Clinicians, and Research Scientist Award; 93.282, Mental Health National Research Service Awards for Research Training, National Institutes of Health, HHS)

Dated: October 17, 2006.
Anna Snouffer,
Acting Director, Office of Federal Advisory Committee Policy.

[FR Doc. 06-8881 Filed 10-24-06; 8:45 am]

BILLING CODE 4140-01-M